NATIONAL SCIENCE FOUNDATION

Advisory Committee for Engineering; Notice of Meeting

In accordance with Federal Advisory Committee Act (Pub. L. 92-463, as amended), the National Science Foundation announces the following meeting:

Name: Engineering Advisory Committee Meeting. #1170.

Date/Time: October 17, 2012: 7:45 a.m. to 5:30 p.m., October 18, 2012: 7:45 a.m. to 12:45 p.m.

Place: National Science Foundation, 4201 Wilson Boulevard, Suite 1235, Arlington, Virginia 22203.

Type Of Meeting: Open.

Contact Person: Deborah Young, National Science Foundation, 4201 Wilson Boulevard, Suite 505, Arlington, Virginia 22203 703/292-8300.

Purpose of Meeting: To provide advice, recommendations and counsel on major goals and policies pertaining to engineering programs and activities.

Agenda

Wednesday, October 17, 2012—8:00 a.m.-5:30 p.m.

• Division of Civil, Mechanical, and Manufacturing Innovation (CMMI) Overview

• CMMI Committee of Visitors Report

• Introduction to ENG Strategic Activities

• Panel and Discussion on Advanced Manufacturing

• Division of Chemical, Bioengineering, Environmental, and Transport Systems (CBET) Overview

• CBET Committee of Visitors Report

• Panel and Discussion on Developing Next-generation Engineers

• Future Opportunities and Challenges for Engineering

Thursday, October 18, 2012—7:30 a.m.-12:45 p.m.

• Welcome from Subra Suresh, NSF Director, and Cora Marrett, NSF Deputy Director

• Panel and Discussion on Neuroscience and Engineering

• Roundtable on ENG Strategic Activities and Recommendations

• Recognition, Closing Remarks, and Wrap Up

Dated: September 25, 2012.
Susanne Bolton,
Committee Management Officer.

[FR Doc. 2012-23881 Filed 9-27-12; 8:45 am]

BILLING CODE 7555-01-P